DEPARTMENT OF AGRICULTURE

Agricultural Marketing Service

[Doc. No. AMS-FTPP-23-0032]

Notice of Funds Availability

AGENCY: Agricultural Marketing Service, USDA.

ACTION: Notice.

SUMMARY: The Secretary hereby announces the availability of funding for cotton merchandisers under the Pandemic Assistance for Cotton Merchandisers (PACM) Program. PACM will be administered by the Agricultural Marketing Service (AMS) and is authorized by the Consolidated Appropriations Act, 2023. The funds are intended to reduce the economic impacts of COVID-19 and other supply chain disruptions that impacted cotton merchandisers. Interested entities may apply for program participation by submitting the application, and required supporting documentation, available on our website at www.ams.usda.gov/services/warehouse/cotton-program.

DATES:

Eligibility Period: AMS will accept claims from cotton merchandisers for the period beginning March 1, 2020, and ending December 29, 2022.

Claim Period: All claims must be submitted by 11:59 p.m. Eastern Time, September 29, 2023, to be considered eligible for review and determination of PACM program benefits.

Funding Expiration: Funds under this statutory authority must be expended no later than December 29, 2023.

ADDRESSES: Applications are available on the AMS website at https://www.ams.usda.gov/services/warehouse/cotton-program or via email at PACM@usda.gov. Applications and supporting documentation are required to be uploaded to https://wcmd.app.box.com/f/5a6db73028e54d9982e1e85d193d1b16.

FOR FURTHER INFORMATION CONTACT: Dan Schofer, Program Manager, Warehouse and Commodity Management Division, (202) 720-0219, PACM@usda.gov.

SUPPLEMENTARY INFORMATION:

Background: Division N, Title VII, Section 751 of The Consolidated Appropriations Act, 2021 (CAA 2021; Pub. L. 116-260), provided $11,187,500,000 to prevent, prepare for, and respond to coronavirus by providing support for agricultural producers, growers, and processors impacted by coronavirus. Section 601(a)(4) of Division HH of the CAA 2023, using unobligated balances from the CAA 2021, made available $100,000,000 for PACM, of which $99 million is available for further pandemic relief to cotton merchandisers. The funding for this program was excepted from the recissions of Division B, Title I, Section 4 of the Fiscal Responsibility Act (Pub. L. 118-5).

Eligible Cotton: Cotton eligible for payment under PACM must have a Permanent Bale Identification (PBI) number and have been purchased from, or marketed on behalf of, a United States cotton producer during the eligibility period of March 1, 2020, to December 29, 2022.

Eligible Participants: To be eligible to receive a payment under PACM, cotton merchandisers must provide a certification attesting to, and records indicating that, during the eligibility period (March 1, 2020, to December 29, 2022), cotton was purchased or marketed on behalf of a United States cotton producer and certify that they are responsible for final sale to the domestic end user or that they are the exporter of the cotton and that they bore the majority of the transportation and marketing costs. Final sale is defined as the final transaction wherein a contract for eligible cotton has been executed, directly or indirectly, transferring title or custody of cotton to the domestic end user or exporter. Cotton Merchandisers are entities that are regularly engaged in the business of buying and selling raw cotton for manufacturing by an end user. All Cotton Merchandisers must be organized under the laws of a state in the United States and must be currently active and in good standing according to the applicable registration authority, as well as an active registration with the System for Award Management (SAM) (www.sam.gov) to receive program payments. SAM is an official website of the U.S. Government. There is no cost to use SAM.

Claims Process: Claim Submission Requirements: Eligible cotton merchandisers must submit an application, available at https://www.ams.usda.gov/services/warehouse/cotton-program, via Secure Upload at https://wcmd.app.box.com/f/5a6db73028e54d9982e1e85d193d1b16 attesting to entity information and the total number of bales claimed. In addition, supplemental information must be submitted in a Comma-Separated Values (csv) file, including Permanent Bale Identification (PBI) number, crop year, receipt number, shipping mark, shipment date, and last storing warehouse code or identifier.

Claim Validation: There will be one payment only per eligible bale of cotton. Merchandisers will self-certify their volume of bales and provide the unique Permanent Bale Identification (PBI) with their applications. While conducting eligibility reviews, AMS may request additional documentation to substantiate claims.

Payment: Payment Eligibility: Claimants must have an active registration with the System for Award Management (SAM) (www.sam.gov) to receive program payments. SAM is an official website of the U.S. Government. There is no cost to use SAM.

Payment Calculation: The CAA authorizes up to “$100,000,000, to be derived from the unobligated balances of amounts made available under section 751 of division N of the Consolidated Appropriations Act, 2021 (Pub. L. 116-260)” in pandemic assistance. The CAA also allows the Secretary to use one percent of the total amount “for administrative costs necessary to carry out this program.” The CAA grants the Secretary wide discretion to make payment determinations and rates that take into account the economic impacts of COVID-19 and other supply chain disruptions. Using that discretion, the Secretary has determined that a tiered approach will most efficiently and effectively address these issues in a manner contemplated by the statute.

The Secretary will authorize payments for validated claims (projected), per merchandiser, of $5 per bale for the first 500,000 bales; $2.50 per bale for bales 500,001 to one million; and $1.25 per bale above one million bales. Once the claim period is closed and claims have been validated, final tier rates will be adjusted to spend the full funds while maintaining the tier proportions.

Claim and Certifications: AMS will send notification of the amount certified for payment to the email address indicated on the application. If the claimant disputes the amount of the payment or has questions, they will have 14 days after receipt of notification of payment calculation to contact AMS to review the claim. Any request for reconsideration or other inquiries should be directed to PACM@usda.gov. If the issues are not resolved, the claimant may seek review and issuance of a final agency decision by the National Appeals Division pursuant to 7 U.S.C. 6991.

Congressional Review Act Requirements: USDA has determined that this action is economically insignificant because expenditures are less than $100 million and will not result in a major increase in cost for consumers, industry, Federal, State, or local government agencies. Furthermore, the beneficiaries of this rule have been significantly impacted by the COVID-19 outbreak and disaster events, which has resulted in significant declines in demand and supply chain disruptions. USDA finds that notice and public procedure are contrary to the public interest. Therefore, even though this rule could be determined to be a major rule for purposes of the Congressional Review Act, USDA is not required to delay the effective date for 60 days from the date of publication to allow for Congressional review. Accordingly, this rule is effective upon publication in the Federal Register.

Paperwork Reduction Act Requirements: In compliance with the provisions of the Paperwork Reduction Act (44 U.S.C. chapter 35), the information collection request has been approved by OMB under the control number of 0503-0028, USDA Generic Solution for Solicitation for Funding Opportunity Announcements. AMS will collect the information from cotton merchandisers to qualify for the payment to mitigate the economic impacts of COVID-19 and other supply chain disruptions. PACM is a one-time funding as described in this NOFA.

Federal Assistance Programs: The title and number of the Federal assistance programs, as found in the Assistance Listing ¹ to which this document applies is 10.191, Pandemic Assistance for Cotton Merchandisers (PACM).

¹ See https://sam.gov/content/assistance-listings.

USDA Non-Discrimination Policy: In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-aprogram-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Erin Morris,
Associate Administrator, Agricultural Marketing Service.

[FR Doc. 2023-16492 Filed 8-2-23; 8:45 am]

BILLING CODE P